DEPARTMENT OF DEFENSE

Department of the Army

Privacy Act of 1974; System of Records

AGENCY: Department of the Army, DoD.

ACTION: Notice to amend systems of records.

SUMMARY: The Department of the Army is amending four systems of records notices in its existing inventory of record systems subject to the Privacy Act of 1974, (5 U.S.C. 552a), as amended.

DATES: This proposed action will be effective without further notice on November 15, 2000 unless comments are received which result in a contrary determination.

ADDRESSES: Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: October 10, 2000.
L.M. Bynum,
Alternate OSD Federal Register Liaison Officer, Department of Defense.

A0056-9 TRADOC

System name:

Marine Qualification Records (February 1, 1996, 61 FR 3686).

Changes:

* * * * *

Authority for maintenance of the system:

Delete entry and replace with ‘10 U.S.C. 3013, Secretary of the Army; Army Regulation 600-88, Sea Duty; and E.O. 9397 (SSN).’

* * * * *

Storage:

Delete entry and replace with ‘Electronic storage medium, paper records in file folders and on microfiche.’

* * * * *

Safeguards:

Delete entry and replace with ‘Records are maintained in locked file cabinets in a secure building and are accessible only to authorized personnel in their official capacity.’

Retention and disposal:

Delete entry and replace with ‘DA Form 3068-1 and related records are maintained for 40 years then destroyed. Registers are destroyed 40 years after the date of the last entry in the register.’

* * * * *

A0056-9 TRADOC

System name:

Marine Qualification Records (February 1, 1996, 61 FR 3686).

System location:

Director, Office of the Chief of Transportation, 705 Read Street, Room 12, Fort Eustis, VA 23604-5407.

Categories of individuals covered by the system:

Military and civilian employees of the Army.

Categories of records in the system:

Marine Service Record (DA Form 3068-1), individual's request for examination, test results, character and suitability statements, physical qualification reports, experience qualifications and evaluations, commander's recommendation, Marine Qualification Board recommendation and final action thereon, U.S. Army Marine Licenses (DA Forms 4309 and 4309-1), and similar relevant documents.

Authority for maintenance of the system:

10 U.S.C. 3013, Secretary of the Army; Army Regulation 600-88, Sea Duty; and E.O. 9397 (SSN).

Purpose(s):

To evaluate and recommend appropriate action concerning the issuance, denial, suspension, or revocation of U.S. Army Marine Licenses; to award certification to individuals passing the marine qualification examination; to monitor test content and procedures to ensure that tests are valid and current; to award Special Qualification Identifiers to appointed Marine Qualification Field Examiners; to review marine casualty reports, incident reports, and investigations to re-evaluate qualifications of persons involved; and to maintain Marine Service Records.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The U.S. Coast Guard, Department of Transportation may be furnished information concerning certification and licensing of individuals.

The DoD ‘Blanket Routine Uses’ set forth at the beginning of the Army's compilation of system of record notices apply to this record system.

Policies and practices for storing, retrieving, accessing, retaining, and disposing of records in the system:

Storage:

Electronic storage medium, paper records in file folders and on microfiche.

Retrievability:

By individual's surname and Social Security Number.

Safeguards:

Records are maintained in locked file cabinets in a secure building and are accessible only to authorized personnel in the their official capacity.

Retention and disposal:

DA Form 3068-1 and related records are maintained for 40 years then destroyed. Registers are destroyed 40 years after the date of the last entry in the register.

System manager(s) and address:

Commander, U.S. Army Transportation Center, Privacy Act Officer, 667 Monroe Avenue, Fort Eustis, VA 23604-5040.

Notification procedure:

Individuals seeking to determine whether information about themselves is contained in this system should address written inquiries to the Director, Office of the Chief Transportation, 705 Read Street, Room 12, Fort Eustis, VA 23604-5407.

Individual should furnish name, Social Security Number, address and enough pertinent details that will facilitate locating the information. Request must be signed.

Record access procedures:

Individuals seeking access to information about themselves contained in this system should address written inquiries to the Director, Office of the Chief Transportation, 705 Read Street, Room 12, Fort Eustis, VA 26304-6507.

Individual should furnish name, Social Security Number, address and enough pertinent details that will facilitate locating the information. Request must be signed.

Contesting record procedures:

The Army's rules for accessing records, and for contesting contents and appealing initial agency determinations are contained in Army Regulation 340-21; 32 CFR part 505; or may be obtained from the system manager.

Record source categories:

From the individual, military and civilian personnel records and reports, civilian maritime records, U.S. Coast Guard, commanders and vessel masters, and other appropriate sources able to furnish relevant information.

Exemptions claimed for the system:

None.

A0351-1a TRADOC

System name:

Automated Instructional Management System-Redesign (AIMS-R) (February 2, 1998, 63 FR 5365).

Changes:

* * * * *

System location:

Delete entry and replace with ‘Headquarters, Training and Doctrine Command (TRADOC); TRADOC Service Schools; and Army Training Centers. Addresses for the above may be obtained from the Commander U.S. Army Training Center, 2787 Madison Avenue, Fort Eustis, VA 23604-5166.’

* * * * *

Storage:

Replace ‘Microfiche’ with ‘CD-ROM’.

Safeguards:

Delete entry and replace with ‘Access to system is restricted to authorized personnel only with sign-on and password authorization.’

Retention and disposal:

Delete entry and replace with ‘Records are maintained for 40 years then destroyed. However, records on extension courses are maintained for 3 years in current file area, transferred to the records holding area for 2 years then finally retired to the National Personnel Records Center, 9700 Page Avenue, St. Louis, MO 63132-5100.’

* * * * *

A0351-1a TRADOC

System name:

Automated Instructional Management System-Redesign (AIMS-R).

System location:

Headquarters, Training and Doctrine Command (TRADOC); TRADOC Service Schools; and Army Training Centers. Addresses for the above may be obtained from the Commander U.S. Army Training Center, 2787 Madison Avenue, Fort Eustis, VA 23604-5166.

Categories of individuals covered by the system: Military members of the Army, Navy, Marine Corps, and Air Force, and civilians employed by the U.S. Government, and approved foreign military personnel enrolled in a resident course at a U.S. Army service school.

Categories of records in the system:

Course data to include scheduling, testing, academic, graduation, personnel and attrition data.

Authority for maintenance of the system:

10 U.S.C. 3013, Secretary of the Army; Army Regulation 351-1, Individual Military Education and Training; and E.O. 9397 (SSN).

Purpose(s):

To automate those processes associated with the scheduling, management, testing, and tracking of resident student training. This TRADOC standard management system is composed of several subsystems which perform functions for personnel, student load management, academic records management, test creation, scoring and grading, student critique, resource scheduling and utilization, and query.

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

CD-ROM, computer discs, and paper printouts.

Retrievability:

Retrieved by Social Security Number and course/class number.

Safeguards:

Access to system is restricted to authorized personnel only with sign-on and password authorization.

Retention and disposal:

Records are maintained for 40 years then destroyed. However, records on extension courses are maintained for 3 years in current file area, transferred to the records holding area for 2 years then finally retired to the National Personnel Records Center, 9700 Page Avenue, St. Louis, MO 63132-5100.

System manager(s) and address:

Commander, U.S. Army Training Support Center, Privacy Act Officer, 667 Monroe Avenue, Fort Eustis, VA 26604.

Notification procedure:

Individuals seeking to determine if information about themselves is contained in this system should address written inquiries to the Commander, U.S. Army Training Support Center, 2787 Madison Avenue, Fort Eustis, VA 23604-5166.

Individual should provide the full name, Social Security Number, and military status or other information verifiable from the record itself.

Record access procedures:

Individuals seeking access to information about themselves contained in this system should address written inquiries to the Commander, U.S. Army Training Support Center, 2787 Madison Avenue, Fort Eustis, VA 23604-5166.

Individual should provide the full name, Social Security Number, and military status or other information verifiable from the record itself.

Contesting record procedures:

The Army's rules for accessing records, contesting contents and appealing initial agency determinations are contained in Army Regulation 340-21; 32 CFR part 505; or may be obtained from the system manager.

Record source categories:

Information is received from the individual, DoD staff, Personnel and Training systems, and faculty.

Exemptions claimed for the system:

None

A0600-85f DAPE

System name:

ADAPCP Clinical Certification Program Application File (January 12, 1993, 58 FR 3938).

Changes:

* * * * *

System location:

Delete entry and replace with ‘U.S. Army Medical Command, Army Substance Abuse Program, Clinical Certification 2050 Worth Road, Suite 10, Fort Sam Houston, TX 78234-6010.’

Categories of individuals covered by the system:

Delete entry and replace with ‘Department of the Army Civilian Psychologists, Social Workers, Drug and Alcohol Program Specialists, Social Services Representatives/Assistance, Psychology Technicians, and enlisted military counselors (Behavioral Science Specialists) employed or assigned to the Alcohol and Drug Abuse Prevention and Control Program (ADAPCP) Community Counseling Centers or Residential Treatment Facilities who provide counseling services to ADAPCP clients.’

Categories of records in the system:

Delete entry and replace with ‘Copies of candidate Application Portfolio with education and employment history and related documents that include Social Security Numbers, are required for each certification candidate. A signed copy of the Sobriety Statement is included in the application portfolio. Copies of course certificates and/or official college transcripts are also required in the candidate's file. Certification examination results and correspondence pertaining to the application status, certification renewal and Board decisions are also maintained in the candidate's file. In addition to a roster of all certified personnel; examination failures; previously certified personnel; and other program status information.’

Authority for maintenance of the system:

Delete entry and replace with ‘10 U.S.C. 3013, Secretary of the Army; Army Regulation 600-85, Alcohol and Drug Abuse Prevention and Control Program; and E.O. 9397 (SSN).’

Purpose(s):

Delete entry and replace with ‘To receive, evaluate, and maintain, re-certification applications for Alcohol and Drug Abuse Prevention and Control Program Clinical Certification Staff; process information routinely used to verify and ensure accuracy of education, Continuing Education Unites (CEUs), employment or assignment records; ensure incumbents are qualified to provide quality care to Alcohol and Drug Abuse Prevention and Control Program clients; and provide statistical information for program analysis.’

* * * * *

Retention and Disposal:

Delete entry and replace with ‘Records will be maintained during individual's tenure and 5 years beyond the date of departure from the program then destroyed. Individuals who transfer to another ADAPCP organization records transfer also.’

* * * * *

A0600-85f DAPE

System name:

ADAPCP Clinical Certification Program Application File.

System location:

U.S. Army Medical Command, Army Substance Abuse Program, Clinical Certification 2050 Worth Road, Suite 10, Fort Sam Houston, TX 78234-6010.

Categories of individuals covered by the system:

Department of the Army Civilian Psychologists, Social Workers, Drug and Alcohol Program Specialists, Social Services Representatives/Assistance, Psychology Technicians, and enlisted military counselors (Behavioral Science Specialists) employed or assigned to the Alcohol and Drug Abuse Prevention and Control Program (ADAPCP) Community Counseling Centers or Residential Treatment Facilities who provide counseling services to ADAPCP clients.

Categories of records in the system:

Copies of candidate Application Portfolio with education and employment history and related documents that include Social Security Numbers, are required for each certification candidate. A signed copy of the Sobriety Statement is included in the application portfolio. Copies of course certificates and/or official college transcripts are also required in the candidate's file. Certification examination results and correspondence pertaining to the application status, certification renewal and Board decisions are also maintained in the candidate's file. In addition to a roster of all certified personnel; examination failures; previously certified personnel; and other program status information.

Authority for maintenance of the system:

10 U.S.C. 3013, Secretary of the Army; Army Regulation 600-85, Alcohol and Drug Abuse Prevention and Control Program; and E.O. 9397 (SSN).

Purpose(s):

To receive, evaluate, and maintain, re-certification applications for Alcohol and Drug Abuse Prevention and Control Program Clinical Certification Staff; process information routinely used to verify and ensure accuracy of education, Continuing Education Units (CEUs), employment or assignment records; ensure incumbents are qualified to provide quality care to Alcohol and Drug Abuse Prevention and Control Program clients; and provide statistical information for program analysis.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To qualified personnel conducting scientific research, management, or financial audits or program evaluations. All personal identifiers are removed from data.

In response to a court order based on the showing of good cause in which the need for disclosure and the public's interest is necessary to support clinical competence.

The DoD ‘Blanket Routine Uses’ set forth at the beginning of the Army's compilation of system of records notices also apply to this system.

Policies and practices for storing, retrieving, accessing, retaining, and disposing of records:

Storage:

Electronic storage medium and file folders in secured file cabinets.

Retrievability:

Retrieved by the surname, applicant file number, and social security number.

Safeguards:

All information is maintained in secured areas accessible only to designated individuals having official need therefor in the performance of official duties.

Retention and disposal:

Records will be maintained during individual's tenure and 5 years beyond the date of departure from the program then destroyed. Individuals who transfer to another ADAPCP organization records transfer also.

System manager(s) and address:

Commander, U.S. Army Medical Command, Army Substance Abuse Program Clinical Certification, 2050 Worth Road, Suite 10, Fort Sam Houston, Texas 78234-6010.

Notification procedure:

Individuals seeking to determine whether this system of records contains information about themselves should address written inquiries to the Commander, U.S. Army Medical Command, Army Substance Abuse Program Clinical Certification, 2050 Worth Road, Suite 10, Fort Sam Houston, Texas 78234-6010.

Record access procedures:

Individuals seeking access to records about themselves contained in this system of records should address written inquiries to Commander, U.S. Army Medical Command, Army Substance Abuse Program Clinical Certification, 2050 Worth Road, Suite 10, Fort Sam Houston, Texas 78234-6010.

Contesting record procedures:

The Army's rules for accessing records, and for contesting contents and appealing initial agency determinations are contained in Army Regulation 340-21; 32 CFR part 505; or may be obtained from the system manager.

Record source categories:

From the individuals employed by or assigned to the Army Alcohol and Drug Abuse Prevention and Control Program who submit requested information to apply for ADAPCP Clinical Certification as a condition of continuing employment or otherwise.

Exemptions claimed for the system:

None.

A0608-25 CFSC

System name:

Chief of Staff, Army Retiree Council Files (July 27, 1993, 58 FR 40115).

Changes:

System identifier:

Delete entry and replace with ‘A0600-8-7 DAPE”.

* * * * *

System location:

Delete Community and Family Support Center, 2461 Eisenhower Avenue, Alexandria, VA 22331-0500 and replace.

* * * * *

Authority for maintenance of the system:

Delete entry and replace with ‘10 U.S.C. 3013, Secretary of the Army; 10 U.S.C. 1588 and 3966; Army Regulation 600-8-7, Retirement Service Program; and E.O. 9397 (SSN).’

* * * * *

Retention and disposal:

Delete entry and replace with ‘Paper records relevant to the retiree volunteer waivers and claims are maintained for 6 years then destroyed. Statements of employment are maintained until the death of the individual then destroyed. Retirement service control cards, pre-retirement counseling and related documents are maintained for 1 year after the departure of individual from the installation or retirement then destroyed. Maintain for 1 year then destroy individual retirement cases, includes information related to processing of and providing assistance to personnel planning to retire.’

* * * * *

A0600-8-7 DAPE

System name:

Chief of Staff, Army Retiree Council Files.

System location:

Chief, Office of the Deputy Chief of Staff for Personnel, Army Retirement Services, 200 Stovall Street, Alexandria, VA 22332-0470. Segments of this system exist at Headquarters, U.S. Army Forces Command, Fort McPherson, GA; U.S. Army Training and Doctrine Command, Fort Monroe, VA; Headquarters, Military District of Washington; and installations operating retiree councils. Official mailing addresses are published as an appendix to the Army's compilation of record systems notices.

Categories of individuals covered by the system:

Retired Army personnel who have been nominated to serve and those who have been nominated and appointed to serve on the Chief of Staff, Army Retiree Council.

Categories of records in the system:

Retiree's name, grade, retirement class/date/code, Social Security Number, branch of service, date of birth, component, years of service, percentage of disability, sex, and home address; biographical sketch of retirees seeking appointment to the Chief of Staff, Army Retiree Council, comprising much of the above information and supplemented by description of involvement in military and civic affairs since retirement, statement of willingness to serve pursuant to Army Regulation 600-8-7, Retirement Services Program, correspondence between Army and applicant regarding acceptance/non-selection, active duty training orders; and similar relevant documents.

Authority for maintenance of the system:

10 U.S.C. 3013, Secretary of the Army; 10 U.S.C. 1588 and 3966; Army, Army Regulation 600-8-7, Retirement Service Program; and E.O. 9397 (SSN).

Purpose(s):

To provide the Active Army with insight into problems and needs of the retirees.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Paper records in file folders.

Retrievability:

By individual's surname.

Safeguards:

Records are maintained in secure area accessible only to designated individuals in the performance of their duties.

Retention and disposal:

Paper records relevant to the retiree volunteer waivers and claims are maintained for 6 years then destroyed. Statements of employment are maintained until the death of the individual then destroyed. Retirement service control cards, pre-retirement counseling and related documents are maintained for 1 year after the departure of individual from the installation or retirement then destroyed. Maintain for 1 year then destroy individual retirement cases, includes information related to processing of and providing assistance to personnel planning to retire.

System manager(s) and address:

Chief, Office Deputy Chief of Staff for Personnel, Army Retirement Services, 200 Stovall Street, Alexandria, VA 22332-0470.

Notification procedure:

Individuals seeking to determine if information about themselves is contained in this record system should address written inquiries to the Chief, Office Deputy Chief of Staff for Personnel, Army Retirement Services, 200 Stovall Street, Alexandria, VA 22332-0470.

Individuals should provide the full name, current address and telephone number, and any details that would help locate the record.

Record access procedures:

Individuals seeking access to records about themselves contained in this record system should address written inquires to the Chief, Office Deputy Chief of Staff for Personnel, Army Retirement Services, 200 Stovall Street, Alexandria, VA 22332-0470.

Individuals should provide the full name, current address and telephone number, and any details that would help locate the record.

Contesting record procedures:

The Army's rules for accessing records, and for contesting contents and appealing initial agency determinations are contained in Army Regulation 340-21; 32 CFR part 505; or may be obtained from the system manager.

Record source categories:

From the individual; Army records and reports.

Exemptions claimed for the system:

None.

[FR Doc. 00-26412 Filed 10-13-00; 8:45 am]

BILLING CODE 5001-01-M